NATIONAL AREONAUTICS AND SPACE ADMINISTRATION

[Notice (00-035)]

NASA Advisory Council (NAC), Earth Systems Science and Applications Advisory Committee; Meeting

AGENCY: National Aeronautics and Space Administration.

ACTION: Notice of meeting.

SUMMARY: In accordance with the Federal Advisory Committee Act, Pub. L. 92-463, as amended, the National Aeronautics and Space Administration announces a meeting of the NASA Advisory Council, Earth Systems Science and Applications Advisory Committee.

DATES: Monday, May 8, 2000, 9:00 a.m. to 5:45 p.m.; and Tuesday, May 9, 2000, 8 a.m. to 4:15 p.m.

ADDRESSES: Endicott House, 80 Haven Street, Dedham, MA 02026.

FOR FURTHER INFORMATION CONTACT: Dr. Robert Schiffer, Code YS, National Aeronautics and Space Administration, Washington, DC 20546, 202/358-1876.

SUPPLEMENTARY INFORMATION: The meeting will be open to the public up to the seating capacity of the room. The agenda for the meeting is as follows:

May 8

—Assessment of the State-of-the-Enterprise

—Budget Discussion

—Status Reports re: ESSAAC Subcommittees and ad hoc Panels

—Technology

—Data & Information Systems

—Future Goals & GPRA Metrics

—Applications Program Overview

—Overview of the ESE Science Implementation Plan

—New Overview Section

—Research Solicitation Strategy

—Open Discussion

—Adjourn

May 9

—Summary of First Day

—Technology Strategy and Roadmap

—Strategic Planning Status Overview—ESE Vision

—ESSAAC Discussion

—Debriefing/Closing Remarks

—Summary of Actions, Future Schedule

—Adjourn

It is imperative that the meeting be held on these dates to accommodate the scheduling priorities of the key participants. Visitors will be requested to sign a visitor's register.

Dated: April 10, 2000.
Matthew M. Crouch,
Advisory Committee Management Officer, National Aeronautics and Space Administration.

[FR Doc. 00-9262 Filed 4-13-00; 8:45 am]

BILLING CODE 7510-01-P